Title 3—

The President

Proclamation 7858 of December 21, 2004

To Take Certain Actions Under the African Growth and

Opportunity Act

By the President of the United States of America

A Proclamation

1. In Proclamation 7561 of May 16, 2002, I designated the Republic of Cote d'Ivoire as a beneficiary sub-Saharan African country pursuant to section 506A(a)(1) of the Trade Act of 1974, as amended, (the “1974 Act”) (19 U.S.C. 2466a(a)(1)), as added by section 111(a) of the African Growth and Opportunity Act (title I of Public Law 106-200) (AGOA)). I also provided that Cote d'Ivoire would be considered a lesser developed beneficiary sub-Saharan African country for purposes of section 112(b)(3)(B) of the AGOA (19 U.S.C. 3721(b)(3)(B)).

2. In Proclamation 7350 of October 2, 2000, President Clinton delegated to the United States Trade Representative (USTR) the authority to perform the function specified in section 113(b)(1)(B) of the AGOA (19 U.S.C. 3722(b)(1)(B)). In a Federal Register notice dated December 17, 2003, the USTR determined that Cote d'Ivoire had adopted an effective visa system and related procedures to prevent unlawful transshipment and the use of counterfeit documents and that Cote d'Ivoire had implemented and followed, or was making substantial progress toward implementing and following, certain customs procedures that assist the United States Customs Service in verifying the origin of the products.

3. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act, effective on January 1 of the year following the year in which such determination is made.

4. Pursuant to section 506A(a)(3) of the 1974 Act, I have determined that Cote d'Ivoire is not making continual progress in meeting the requirements described in section 506A(a)(1) of the 1974 Act. Accordingly, I have decided to terminate the designation of Cote d'Ivoire as a beneficiary sub-Saharan African country for purposes of section 506A of the 1974 Act, effective on January 1, 2005.

5. Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including sections 506A and 604 of the 1974 Act and section 301 of title 3, United States Code, do proclaim that:

(1) The designation of Cote d'Ivoire as a beneficiary sub-Saharan African country for purposes of section 506A of the 1974 Act is terminated, effective on January 1, 2005.

(2) In order to reflect in the HTS that beginning January 1, 2005, Cote d'Ivoire shall no longer be designated as a beneficiary sub-Saharan African country, general note 16(a) to the HTS is modified by deleting “Republic of Cote d'Ivoire” from the list of beneficiary sub-Saharan African countries. Further, U.S. note 2(d) to subchapter XIX of chapter 98 is modified by removing “Cote d'Ivoire” from the list of lesser developed beneficiary sub-Saharan African countries, and U.S. note 7(a) to subchapter II and U.S. note 1 to subchapter XIX of chapter 98 of the HTS are modified by deleting “Cote d'Ivoire” from the list of beneficiary sub-Saharan African countries eligible for certain textile and apparel benefits.

(3) The modification to the HTS made by this proclamation shall be effective with respect to articles entered, or withdrawn from warehouse for consumption, on or after January 1, 2005.

(4) Any provisions of previous proclamations and executive orders that are inconsistent with this proclamation are superseded to the extent of such inconsistency.

IN WITNESS WHEREOF, I have hereunto set my hand this twenty-first day of December, in the year of our Lord two thousand four, and of the Independence of the United States of America the two hundred and twenty-ninth.

B

[FR Doc. 04-28403

Filed 12-23-04; 8:45 am]

Billing code 3195-01-P